DEPARTMENT OF HOMELAND SECURITY

Federal Emergency Management Agency

[Docket ID FEMA-2017-0015; OMB No. 1660-0025]

Agency Information Collection Activities: Proposed Collection; Comment Request; Non-Disaster (ND) Grants System.

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the Non-Disaster (ND) Grants System.

DATES: Comments must be submitted on or before July 10, 2017.

ADDRESSES: To avoid duplicate submissions to the docket, please use only one of the following means to submit comments:

(1) Online. Submit comments at www.regulations.gov under Docket ID FEMA-2017-0015. Follow the instructions for submitting comments.

(2) Mail. Submit written comments to Docket Manager, Office of Chief Counsel, DHS/FEMA, 500 C Street SW., 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Everett Yuille, Branch Chief (Systems and Business Support Branch), FEMA, Grant Programs Directorate, Grant Operations Division, at (202) 786-9457. You may contact the Records Management Division for copies of the proposed collection of information at email address: FEMA-Information-Collections-Management@fema.dhs.gov.

SUPPLEMENTARY INFORMATION: Title 2 CFR, Part 200, Uniform Administrative Requirements, Cost Principals, and Audit Requirements for Federal Awards, establishes uniform administrative requirements, cost principles, and audit requirements for FEMA. In order to minimize the administrative burden for State and local partners to manage grants, it is necessary to standardize FEMA's grant administration processes. Currently, FEMA relies on multiple separate grants management systems and manual processes to perform its grants management functions. FEMA is revising this collection of information by fully integrating and automating these systems through ND Grants (https://portal.fema.gov), through which FEMA will implement a single, integrated, web-based, grants data collection and management system. With ND Grants, FEMA seeks to meet the intent of the E-Government initiative, authorized by Public Law 106-107, passed on November 20, 1999, that requires that all government agencies both streamline grant application processes and provide a mechanism to electronically create, review, and submit a grant application via the Internet.

Collection of Information

Title: Non-Disaster (ND) Grants System.

Type of Information Collection: Revision of a currently approved information collection.

OMB Number: 1660-0025.

FEMA Form: FEMA Form 080-0-0-15, Non-Disaster (ND) Grants System.

Abstract: ND Grants is a web-based grants management system that fulfills FEMA's strategic initiative to consolidate the entire non-disaster grants management lifecycle into a single system. Currently, ND Grants has functionality that supports the grantee application process, award acceptance, amendments, and performance reporting.

Affected Public: State, Local or Tribal Government.

Number of Respondents: 2,380.

Number of Responses: 52,598.

Estimated Total Annual Burden Hours: 26,299 hours.

Estimated Cost: The estimated annual cost to respondents for the hour burden is $988,053.43. There are no annual costs to respondents operations and maintenance costs for technical services. There is no annual start-up or capital costs. The cost to the Federal Government is $8,244,902.03.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: April 27, 2017.
William H. Holzerland,
Senior Director for Information Management, Office of the Chief Administrative Officer, Federal Emergency Management Agency (FEMA), U.S. Department of Homeland Security.

[FR Doc. 2017-09505 Filed 5-10-17; 8:45 am]

BILLING CODE 9111-46-P